ENVIRONMENTAL PROTECTION AGENCY

40 CFR Part 52

[CA 105-CORR FRL-7609-4]

State Implementation Plans; States of Arizona, California, and Nevada; Correction

AGENCY: Environmental Protection Agency (EPA).

ACTION: Correcting amendment.

SUMMARY: This action corrects clerical and typographical errors to regulations codified into the State Implementation Plans for Arizona, California, and Nevada. These errors occurred in final rules published in the Federal Register over a period of time from August 21, 1981 to May 24, 2001.

EFFECTIVE DATE: This action is effective on January 16, 2004.

FOR FURTHER INFORMATION CONTACT: Julie A. Rose, EPA Region IX, (415) 947-4126, rose.julie@epa.gov.

SUPPLEMENTARY INFORMATION: On August 21, 1981 (46 FR 42450), April 16, 1982 (47 FR 16327), May 7, 1982 (47 FR 19694), June 23, 1982 (47 FR 27068), March 27, 1984 (49 FR 11626), October 19, 1984 (49 FR 42450), October 26, 1992 (57 FR 48457), April 3, 1995 (60 FR 16799), June 27, 1997 (62 FR 34641), December 3, 1998 (63 FR 66758), August 19, 1999 (64 FR 45175), May 26, 2000 (65 FR 34101), August 4, 2000 (65 FR 47863), September 13, 2000 (65 FR 55193), September 19, 2000 (65 FR 56486), and May 24, 2001 (66 FR 28666), EPA published final rulemaking actions approving various sections of Arizona, California, and Nevada State Implementation Plans (SIP). These actions incorporated material by reference into 40 CFR 52.120, Identification of plan for Arizona, 40 CFR 52.220, Identification of plan for California, and 40 CFR 52.1470, Identification of plan for Nevada. The various clerical and typographical errors occurred when the material was incorporated by reference into the Code of Federal Regulations (CFR). All of the errors are being corrected by this action. An explanation of each correction is listed below by State and date of publication.

Arizona

On June 27, 1997 at 62 FR 3464, EPA published a final rulemaking deleting certain rules from the SIP. The codified language for § 52.120, paragraph (c)(3)(i) referenced an incorrect date. The correct date is being inserted in this action.

On April 16, 1982 at 47 FR 16326, EPA published a final rulemaking approving Pima County Department of Environmental Quality rules into the SIP. During the printing of the CFR from the year 1992 to 1993, the Government Printing Office inadvertently omitted two lines of codified rules from § 52.120, paragraph (c)(38)(i)(A). This action correctly replaces the approved rules.

On October 19, 1984 at 49 FR 41026, EPA published a final rule approving certain rules into the Arizona SIP. The codified language at § 52.120, paragraph (c)(56)(i)(A) contained two typographical errors, one for Rule R9-3-515 and the other for Appendix 11. These typographical errors are being corrected in this action.

California

On August 19, 1999 at 64 FR 45175, EPA published a direct final rule approving the recission of rules from the Mojave Desert Air Quality Management District. The codified language for § 52.220, paragraph (c)(39)(ii)(G) referenced an incorrect date. The correct date is being inserted in this action.

On August 21, 1981 at 46 FR 42450, EPA published a final rulemaking approving the San Joaquin Valley Air Basin Nonattainment Area Plan (SJVABNAP). On May 7, 1982 at 47 FR 19694, EPA published an additional final rulemaking on the SJVABNAP. Both rulemakings added language to § 52.220, paragraph (c)(71), creating duplicate paragraphs. This action combines and revises the language for (c)(71).

On June 23, 1982 at 47 FR 27068, EPA published a final rulemaking approving Placer County Air Pollution Control District rules. The rules were improperly codified in § 52.220 because paragraph (c)(80)(i)(B) already existed. This action eliminates the duplicate paragraphs by renumbering the June 23, 1982 entry from to (B) to (E).

On October 26, 1992 at 57 FR 48457, EPA published a final rulemaking approving South Coast Air Quality Management District rules. The rules were codified in § 52.220, paragraph (c)(184)(i)(B)(2), creating duplicate paragraphs. This action eliminates the duplicate paragraphs by renumbering that entry from to (2) to (10).

On April 3, 1995 at 60 FR 16799, EPA published a direct final rule approving Bay Area Air Quality Management District rules. The codified language at § 52.220, paragraph (c)(202)(i)(A) incorrectly lists the entire Rule 2-1. The April 3, 1995 Federal Register clearly states that only Section 429 of Rule 2.1 is being approved. This action corrects the entry for paragraph (c)(202)(i)(A) to read Rule 2-1-249.

On June 27, 1997 at 62 FR 34641, EPA published a final rule deleting certain rules from the California SIP. The codified language for Ventura County Air Pollution Control District at § 52.220, paragraph (c)(35)(iii)(C) and paragraph (c)(51)(xx)(B) contained typographical errors. The typographical errors are being corrected in this action.

On December 3, 1998 at 63 FR 66758, EPA published a final rule approving Santa Barbara County Air Pollution Control rules. The codified language at § 52.220, paragraph (c)(225)(i)(F) was inadvertently omitted. The action correctly adds Santa Barbara Air Pollution Control District to paragraph (c)(225)(i)(F).

On May 26, 2000 at 65 FR 34101, EPA published a final rule approving Bay Area Air Quality Management District rules. The codified language at § 52.220, paragraph (c)(248)(i)(F) was inadvertently omitted. The action correctly adds Bay Area Air Quality Management District to paragraph (c)(248)(i)(F).

On December 19, 2000 at 65 FR 79314, EPA published a Final Interim Approval of an Operating Permits Program for the Antelope Valley Air Pollution Control District (AVAPCD). The Final Interim Approval created amendments to § 52.220, paragraph (c)(262)(i)(E)(1), which expired on January 11, 2003. On May 24, 2001 at 66 FR 28666, EPA published a direct final rule approving AVAPCD Rule 1171. The amendments to § 52.220, paragraph (c)(262)(i)(E)(2) were not codified into the CFR. This action codifies Rule 1171 and renumbers the paragraph in § 52.220, to paragraph (c)(262)(i)(E)(1) because the previous entry has expired.

On August 4, 2000 at 65 FR 47863, EPA published a final rule correcting an amendment to the Sacramento Metropolitan Air Quality Management District Rule 464 at § 52.220, paragraph (c)(263)(i)(C)(1). Because of inaccurate amendatory instruction, the paragraph was not corrected. This action corrects the entry for § 52.220, paragraph (c)(263)(i)(C)(1).

On September 13, 2000 at 65 FR 55193, EPA published a final rule approving San Joaquin Valley Unified Air Pollution Control District Rule 4653. Rule 4653 was erroneously codified in § 52.220, paragraph (c)(266)(i)(B)(2) in lieu of (c)(266)(i)(B)(1). This action corrects the codification.

On September 19, 2000 at 65 FR 56486, EPA published a final rule approving Tehama County Air Pollution Control District rules. A typographical error was inadvertently added to the entry for § 52.220, paragraph (c)(263)(i)(D)(1). This action will correct the typographical error.

Nevada

On March 27, 1984 at 49 FR 11628, EPA published a final rule approving Nevada State Department of Conservation and Natural Resources rules. Several typographical errors occurred during the transfer of the information from the Federal Register action to the CFR. This action will correct the typographical errors in § 52.1470, paragraph (c)(25)(i)(A).

Statutory and Executive Order Reviews

Under Executive Order 12866 (58 FR 51735, October 4, 1993), this action is not a “significant regulatory action” and is therefore not subject to review by the Office of Management and Budget. In addition, this action does not impose any enforceable duty or contain any unfunded mandate as described in the Unfunded Mandates Reform Act of 1995 (Pub. L. 104-4), or require prior consultation with State officials as specified by Executive Order 12875 (58 FR 58093, October 28, 1993), or involve special consideration of environmental justice related issues as required by Executive Order 12898 (59 FR 7629, February 16, 1994).

Because this action is not subject to notice-and-comment requirements under the Administrative Procedure Act or any other statute, it is not subject to the provisions of the Regulatory Flexibility Act (5 U.S.C. 601 et seq.).

Under 5 U.S.C. 801(a)(1)(A) as added by the Small Business Regulatory Enforcement Fairness Act of 1996, EPA submitted a report containing this rule and other required information to the U.S. Senate, the U.S. House of Representatives and the Comptroller General of the General Accounting Office prior to publication of this rule in today's Federal Register. This rule is not a “major rule” as defined by 5 U.S.C. 804(2).

List of Subjects in 40 CFR Part 52

Environmental protection, Air pollution control, Incorporation by reference, Intergovernmental relations, Ozone, Reporting and recordkeeping requirements, Volatile organic compounds.

Dated: December 12, 2003.
Wayne Nastri,
Regional Administrator, Region IX.

Part 52, chapter I, title 40 of the Code of Federal Regulations is amended as follows:

PART 52—[AMENDED]

1. The authority citation for part 52 continues to read as follows:

Authority: 42 U.S.C. 7401 et seq.

Subpart D—Arizona

2. Section 52.120 is amended by:

a. Revising paragraph (c)(3)(i)(A); revising paragraph (c)(38)(i)(A); and revising paragraph (c)(56)(i)(A) to read as follows:

§ 52.120 Identification of plan.

* * * * *

(c) * * *

(3) * * *

(i) * * *

(A) Previously approved on July 27, 1972 and now deleted without replacement Rules 60 to 67.

* * * * *

(38) * * *

(i) * * *

(A) New or amended Regulation 10: Rules 101-103; Regulation 11: Rules 111-113; Regulation 12: Rules 121-123; Regulation 13: Rules 131-137; Regulation 14: Rules 141 and 143-147; Regulation 15: Rule 151; Regulation 16: Rules 161-165; Regulation 17: Rules 172-174; Regulation 18: Rules 181 and 182; Regulation 20: Rules 201-205; Regulation 22: Rules 221-226; Regulation 23: Rules 231-232; Regulation 24: Rules 241 and 243-248; Regulation 25: Rules 251 and 252; Regulation 30: Rules 301 and 302; Regulation 31: Rules 312-316 and 318; Regulation 32: Rule 321; Regulation 33: Rules 331 and 332; Regulation 34: Rules 341-344; Regulation 40: Rules 402 and 403; Regulation 41: Rules 411-413; Regulation 50: Rules 501-503 and 505-507; Regulation 51: Rules 511 and 512; Regulation 60: Rule 601; Regulation 61: Rule 611 (Paragraph A.1 to A.3) and Rule 612; Regulation 62: Rules 621-624; Regulation 63: Rule 631; Regulation 64: Rule 641; Regulation 70: Rules 701-705 and 706 (Paragraphs A to C, D.3, D.4, and E); Regulation 71: Rules 711-714; Regulation 72: Rules 721 and 722; Regulation 80: Rules 801-804; Regulation 81: Rule 811; Regulation 82: Rules 821-823; Regulation 90: Rules 901-904; Regulation 91: Rules 911 (except Methods 13-A, 13-B, 14, and 15; and Rules 912, and 913; Regulation 92: Rules 921-924; and Regulation 93: Rules 931 and 932.

* * * * *

(56) * * *

(i) * * *

(A) New or amended rules R9-101 (Nos. 98 and 158), R9-3-201 to R9-3-207, R9-3-215, R9-3-218, R9-3-310, R9-3-322, R9-3-402, R9-3-404, R9-3-502, R9-3-515 (paragraph C.3., C.5., and C.6.b.v.), R9-3-529, R9-3-1101, and Appendices 1 and 11.

* * * * *

Subpart F—California

3. Section 52.220 is amended by:

a. Revising paragraph (c)(35)(iii)(C);

b. Revising paragraph (c)(39)(ii)(G);

c. Revising paragraph (c)(51)(xx)(B);

d. Removing both paragraphs for (c)(71) introductory text and adding a new paragraph (c)(71) introductory text;

e. Redesignating paragraph (c)(80)(i)(B)(which was added on June 23, 1982 at 47 FR 27068) as paragraph (c)(80)(i)(E) and revising newly designated paragraph (c)(80)(i)(E);

f. Redesignating paragraph (c)(184)(i)(B)(2) (which was added on October 26, 1992 at 57 FR 48459) as paragraph (c)(184)(i)(B)(10);

g. Revising paragraph (c)(202)(i)(A)(1);

h. Adding paragraph (c)(225)(i)(F);

i. Adding paragraph (c)(248)(i)(F);

j. Adding paragraph (c)(262)(i)(E);

k. Redesignating paragraph (c)(263)(i)(C)(2) (which was added on April 19, 2000 at 65 FR 20912) as paragraph (c)(202)(i)(C)(1)

l. Revising paragraph (c)(263)(i)(D)(1); and

m. Redesignating paragraph (c)(266)(i)(B)(2) (which was added on September 13, 2000 at 65 FR 55196) as paragraph (c)(266)(i)(B)(1).

The revisions and additions read as follows:

§ 52.220 Identification of plan.

* * * * *

(c) * * *

(35) * * *

(iii) * * *

(C) Previously approved on August 15, 1977 and now deleted without replacement Rules 115 to 119, 122, and 128 to 129.

* * * * *

(39) * * *

(ii) * * *

(G) Previously approved on September 8, 1978 and now deleted without replacement Rules 466 and 467.

* * * * *

(51) * * *

(xx) * * *

(B) Previously approved on June 18, 1982 and now deleted without replacement Rules 40, 110 to 114, 120 to 121, 123 to 126, and 130.

* * * * *

(71) The San Joaquin Valley Air Basin Control Strategy (Chapter 16 of the Comprehensive Revisions to the State of California Implementation Plan for the Attainment and Maintenance of Ambient Air Quality Standards) submitted on October 11, 1979, by the Governor's designee. Those portions of the San Joaquin Valley Air Basin Control Strategy identified by Tables 16-1a, 1b and 1c (Summary of Plan Compliance with Clean Air Act Requirements) except for those portions which pertain to Fresno County and the six transportation control measures for Stanislaus County, comprise the submitted plan. The remaining portions are for informational purposes only. The following rules were also submitted on October 11, 1979 as part of the enforceable plan:

* * * * *

(80) * * *

(i) * * *

(E) New or amended Rules 212, 213, 508 (except Paragraph (1)(C)(3)(h), and 514.

* * * * *

(202) * * *

(i) * * *

(A) * * *

(1) Rule 2-1-249, adopted on June 15, 1994.

* * * * *

(225) * * *

(i) * * *

(F) Santa Barbara County Air Pollution Control District.

* * * * *

(248) * * *

(i) * * *

(F) Bay Area Air Quality Management District.

* * * * *

(262) * * *

(i) * * *

(E) Antelope Valley Air Pollution Control District.

(1) Rule 1171, adopted on November 17, 1998.

* * * * *

(263) * * *

(i) * * *

(C) * * *

(1) Rule 464, adopted on July 23, 1998.

(D) * * *

(1) Rule 4:31 adopted on March 14, 1995, Rule 4:34 adopted on June 3, 1997, and Rule 4.37 adopted on April 21, 1998.

* * * * *

4. Section 52.1470 is amended by revising paragraph (c)(25)(i)(A) to read as follows:

§ 52.1470 Identification of plan.

* * * * *

(c) * * *

(25) * * *

(i) * * *

(A) New or amended sections 445.430-445.437, 445.439-445.447, 445.451, 445.453-445.472, 445.474-445.477, 445.480-445.504, 445.509-445.519, 445.522-445.537, 445.539, 445.542-445.544, 445.546-445.549, 445.551, 445.552, 445.554-445.568, 445.570, 445.572-445.587, 445.589-445.605, 445.608-445.612, 445.614-445.622, 445.624, 445.626, 445.627, 445.629-445.655, 445.660, 445.662-445.667, 445.682, 445.685-445.700, 445.704-445.707, 445.712-445.716, 445.721, 445.723, 445.729-445.732, 445.734, 445.742, 445.743, 445.746, 445.753, 445.754, 445.764, 445.844, and 445.845.

* * * * *

[FR Doc. 04-557 Filed 1-15-04; 8:45 am]

BILLING CODE 6560-50-P